OFFICE OF PERSONNEL MANAGEMENT

Civil Service Retirement System; Present Value Factors

AGENCY: Office of Personnel Management.

ACTION: Notice; correction.

SUMMARY: The Office of Personnel Management published a document in the Federal Register of May 17, 2019, concerning adjusted present value factors applicable to retirees under the Civil Service Retirement System (CSRS) who elect to provide survivor annuity benefits to a spouse based on post-retirement marriage; to retiring employees who elect the alternative form of annuity, owe certain redeposits based on refunds of contributions for service ending before March 1, 1991, or elect to credit certain service with nonappropriated fund instrumentalities; or, for individuals with certain types of retirement coverage errors who can elect to receive credit for service by taking an actuarial reduction under the provisions of the Federal Erroneous Retirement Coverage Correction Act. The document referenced a different, separate notice and cited incorrect publication dates for the other notice.

FOR FURTHER INFORMATION CONTACT: Karla Yeakle, (202) 606-0299.

SUPPLEMENTARY INFORMATION:

Correction:

In the Federal Register of May 17, 2019, in FR Doc. 84 FR 22525, on page 22526, in the second column, the notice cross references another notice that revises the normal cost percentage under the Federal Employees' Retirement System (FERS) Act of 1986, Public Law 99-335. It states that the Federal Employees' Retirement System (FERS) Normal Cost notice was published May 17, 2019. It was actually published May 20, 2019.

Office of Personnel Management.
Alexys Stanley,
Regulatory Affairs Analyst.

[FR Doc. 2019-10851 Filed 5-23-19; 8:45 am]

BILLING CODE 6325-38-P